SMALL BUSINESS ADMINISTRATION

[Disaster Declaration #11035 and #11036]

North Dakota Disaster #ND-00009

AGENCY: U.S. Small Business Administration.

ACTION: Notice.

SUMMARY: This is a Notice of the Presidential declaration of a major disaster for the State of North Dakota (FEMA-1726-DR), dated 09/13/2007.

Incident: Severe Storms and Tornado.

Incident Period: 08/26/2007 through 08/27/2007.

DATES: Effective Date: 09/13/2007.

Physical Loan Application Deadline Date: 11/13/2007.

Economic Injury (EIDL) Loan Application Deadline Date: 06/13/2008.

ADDRESSES: Submit completed loan applications to: U.S. Small Business Administration, Processing And Disbursement Center, 14925 Kingsport Road, Fort Worth, TX 76155.

FOR FURTHER INFORMATION CONTACT: A. Escobar, Office of Disaster Assistance, U.S. Small Business Administration, 409 3rd Street SW., Suite 6050, Washington, DC 20416.

SUPPLEMENTARY INFORMATION: Notice is hereby given that as a result of the President's major disaster declaration on 09/13/2007, applications for disaster loans may be filed at the address listed above or other locally announced locations.

The following areas have been determined to be adversely affected by the disaster:

Primary Counties (Physical Damage and Economic Injury Loans): Grand Forks.

Contiguous Counties (Economic Injury Loans Only): North Dakota.

Nelson, Steele, Traill, Walsh.

Minnesota.

Marshall, POLK.

The Interest Rates are:

For Physical Disasters:

| Percent
Homeowners With Credit Available Elsewhere | 6.250
Homeowners Without Credit Available Elsewhere | 3.125
Businesses With Credit Available Elsewhere | 8.000
Other (Including Non-Profit Organizations) With Credit Available Elsewhere | 5.250
Businesses And Non-Profit Organizations Without Credit Available Elsewhere | 4.000

For Economic Injury:

Businesses & Small Agricultural Cooperatives Without Credit Available Elsewhere: 4.000.

The number assigned to this disaster for physical damage is 11035B and for economic injury is 110360.

(Catalog of Federal Domestic Assistance Numbers 59002 and 59008)

James E. Rivera,
Deputy Associate Administrator for Disaster Assistance.

[FR Doc. E7-18581 Filed 9-19-07; 8:45 am]

BILLING CODE 8025-01-P